DEPARTMENT OF COMMERCE

Foreign-Trade Zones Board

[B-10-2020]

Foreign-Trade Zone (FTZ) 176—Rockford, Illinois, Authorization of Production Activity, UniCarriers Americas Corporation (Forklift Engines and Assemblies), Marengo, Illinois

On February 18, 2020, UniCarriers Americas Corporation submitted a notification of proposed production activity to the FTZ Board for its facilities within Subzone 176E, in Marengo, Illinois.

The notification was processed in accordance with the regulations of the FTZ Board (15 CFR part 400), including notice in the Federal Register inviting public comment (85 FR 12497, March 3, 2020). On June 17, 2020, the applicant was notified of the FTZ Board's decision that no further review of the activity is warranted at this time. The production activity described in the notification was authorized, subject to the FTZ Act and the FTZ Board's regulations, including Section 400.14.

Dated: June 17, 2020.
Andrew McGilvray,
Executive Secretary.

[FR Doc. 2020-13498 Filed 6-22-20; 8:45 am]

BILLING CODE 3510-DS-P